NUCLEAR REGULATORY COMMISSION

Advisory Committee on Reactor Safeguards; Meeting of the Plant Operations and Fire Protection Subcommittee; Notice of Meeting

The ACRS Subcommittee on Plant Operations & Fire Protection will hold a meeting on July 30, 2009, U.S. Nuclear Regulatory Commission Region II, Sam Nunn Atlanta Federal Center, 23 T85, 61 Forsyth Street, SW., Atlanta, GA 30303-8931.

This meeting will be open to public attendance.

The agenda for the subject meeting shall be as follows:

July 30, 2009—8 a.m.-3 p.m.

The Subcommittee will meet with the Administrator and Region II staff on items of mutual interest. The Subcommittee will gather information, analyze relevant issues and facts, and formulate proposed positions and actions, as appropriate, for deliberation by the Full Committee at a later date.

Members of the public desiring to observe the meeting, provide oral statements and/or written comments should notify the Designated Federal Official, Ms. Maitri Banerjee (telephone 301-415-6973) at five days prior to the meeting, if possible, so that appropriate arrangements can be made. Members of the public will be required to present a valid form of identification and go through security screening at the entrance of the building. Electronic recordings will be permitted. Detailed procedures for the conduct of and participation in ACRS meetings were published in the Federal Register on October 6, 2008, (73FR 58268-58269).

Further information regarding this meeting can be obtained by contacting the Designated Federal Official between 7 a.m. and 4:45 p.m. (ET). Persons planning to attend this meeting are urged to contact the above named individual at least two working days prior to the meeting to be advised of any potential changes to the agenda.

Dated: June 23, 2009.
Cayetano Santos,
Chief, Reactor Safety Branch A, Advisory Committee on Reactor Safeguards.

[FR Doc. E9-15635 Filed 7-1-09; 8:45 am]

BILLING CODE 7590-01-P